DEPARTMENT OF COMMERCE

National Oceanic and Atmospheric Administration

Hydrographic Services Review Panel Meeting; Correction

AGENCY: National Ocean Service, National Oceanic and Atmospheric Administration (NOAA), Department of Commerce.

ACTION: Notice; correction.

SUMMARY: The National Oceanic and Atmospheric Administration published a document in the Federal Register of June 3, 2009, entitled Hydrographic Services Review Panel Meeting. The information concerning the HSRP Web page is incorrect. The correct Web page is http://www.nauticalcharts.noaa.gov/ocs/hsrp/hsrp.htm.

Date and Time: As published in the June 3, 2009 Federal Register, the conference call will convene at 2:30 p.m. Eastern Daylight Time, June 22, 2009, and end by 3:30 p.m. Eastern Daylight Time, if not earlier.

FOR FURTHER INFORMATION CONTACT: Rebecca Arenson, Office of Coast Survey, National Ocean Service (NOS), NOAA (N/CS), 1315 East West Highway, Silver Spring, Maryland 20910; telephone: 301-713-2770; fax: 301-713-4019; e-mail: Rebecca.Arenson@noaa.gov, or visit the NOAA HSRP Web site at http://www.nauticalcharts.noaa.gov/ocs/hsrp/hsrp.htm.

SUPPLEMENTARY INFORMATION:

Correction

The National Oceanic and Atmospheric Administration published a document in the Federal Register of June 3, 2009, entitled Hydrographic Services Review Panel Meeting. The information concerning the HSRP Web page is incorrect. The correct Web page is http://www.nauticalcharts.noaa.gov/ocs/hsrp/hsrp.htm.

Dated: June 4, 2009.
Christopher C. Cartwright,
Associate Assistant Administrator for Management and CFO/CAO, Ocean Services and Coastal Zone Management.

[FR Doc. E9-13492 Filed 6-8-09; 8:45 am]

BILLING CODE 3510-JE-P